DEPARTMENT OF HOUSING AND URBAN DEVELOPMENT

[Docket No. FR-5469-N-01]

Federal Housing Administration (FHA): FHA Maximum Loan Limits for 2011

AGENCY: Office of the Assistant Secretary for Housing—Federal Housing Commissioner, HUD.

ACTION: Notice.

SUMMARY: This notice announces that FHA has posted on its Web site the single-family maximum loan limits for 2011. The loan limit limits can be found at http://www.hud.gov/offices/adm/hudclips/letters/mortgagee/.

FOR FURTHER INFORMATION CONTACT: Karin B. Hill, Director, Office of Single Family Program Development, Office of Housing, Department of Housing and Urban Development, 451 7th Street, SW., Washington, DC 20410-8000; telephone number 202-708-2121 (this is not a toll-free number). Persons with hearing or speech impairments may access this number through TTY by calling the toll-free Federal Information Relay Service at 800-877-8339.

SUPPLEMENTARY INFORMATION: The FHA maximum loan limits for 2011 apply to mortgages insured under the following sections of the National Housing Act: Sections 203(b) (FHA's basic 1-4 family mortgage insurance program, including condominiums), 203(h) (mortgages for disaster victims), 203(k) (rehabilitation mortgage insurance) and 255 (Home Equity Conversion Mortgages). The loan limits apply to forward loans that were originated and received credit approval within the stated effective date for all programs herein except for Section 255 (HECM). The loan limits are applicable to all HECMs that have been assigned a FHA case number within the period January 1, 2011 through September 30, 2011.

FHA's regulations at 24 CFR 203.18b provide for requests to be made to FHA to change the established area loan limits. The regulations at 24 CFR 203.18b provide the procedures by which changes are to be requested and the procedures can also be found in FHA Mortgagee Letter 2007-01. Requests to changes to the maximum area loan limits should be made no later than the date specified in the mortgagee letter announcing the 2011 maximum loan limits. The 2007-01 Mortgagee Letter and, again, the Mortgagee Letter announcing 2011 maximum loan limits can be found at http://www.hud.gov/offices/adm/hudclips/letters/mortgagee/.

Dated: November 29, 2010.
Karin Hill,
Director, Office of Single Family Program Development.

[FR Doc. 2010-30687 Filed 12-7-10; 8:45 am]

BILLING CODE 4210-67-P